DEPARTMENT OF HOMELAND SECURITY

Federal Emergency Management Agency

[Docket ID: FEMA-2010-0009-]

Agency Information Collection Activities: Proposed Collection; Comment Request, 1660-NEW; Environmental and Historic Preservation Environmental Screening Form

AGENCY: Federal Emergency Management Agency, DHS.

ACTION: Notice; 60-day notice and request for comments; new information collection; OMB No. 1660-NEW; FEMA Form 024-0-1, Environmental and Historic Preservation Environmental Screening Form.

SUMMARY: The Federal Emergency Management Agency, as part of its continuing effort to reduce paperwork and respondent burden, invites the general public and other Federal agencies to take this opportunity to comment on a proposed new information collection. In accordance with the Paperwork Reduction Act of 1995, this Notice seeks comments concerning the information collection activities required to administer the Environmental and Historic Preservation Environmental Screening Form.

DATES: Comments must be submitted on or before May 24, 2010.

ADDRESSES: To avoid duplicate submissions to the docket, please use only one of the following means to submit comments:

(1) Online. Submit comments at http://www.regulations.gov under docket ID FEMA-2010-0009-. Follow the instructions for submitting comments.

(2) Mail. Submit written comments to Office of Chief Counsel, Regulation and Policy Team, DHS/FEMA, 500 C Street, SW., Room 835, WASH, DC 20472-3100.

(3) Facsimile. Submit comments to (703) 483-2999.

(4) E-mail. Submit comments to FEMA-POLICY@dhs.gov. Include docket ID FEMA-2010-0009- in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy Notice link in the footer of http://www.regulations.gov.

FOR FURTHER INFORMATION CONTACT: Paul Belkin, Program Analyst, Grant Programs Directorate, 202-786-9771 for additional information. You may contact the Records Management Division for copies of the proposed collection of information at facsimile number (202) 646-3347 or e-mail address: FEMA-Information-Collections@dhs.gov.

SUPPLEMENTARY INFORMATION: The National Environmental Policy Act (NEPA) (Pub. L. 91-190) requires that the Federal government examine the impact of its actions on the environment, look at potential alternatives to that action, inform both decision-makers and the public of those impacts through a transparent process, and pursue mitigation if necessary. Environmental and Historic Preservation (EHP) compliance refers to the process by which the Federal government ensures that projects financed through Federal grant funding are compliant with NEPA and existing laws and regulations related to environment and historic preservation. Compliance under NEPA is required whenever Federal funds are expended as listed in Sec. 102(D) of the National Environmental Policy Act (42 U.S.C. 4332(D)). A NEPA compliance review process for FEMA grant programs incorporates compliance with Section 106 of the National Historic Preservation Act (NHPA) (Pub. L. 102-575, 16 U.S.C. 470f) which requires that a Federal official, having jurisdiction over awarding of Federal funds, will have to take into consideration the effect that the actions undertaken as a result of the awarded funds have on any district, site, building, structure, or object that is included in or eligible for inclusion in the National Register.

Collection of Information

Title: Environmental and Historic Preservation Environmental Screening Form.

Type of Information Collection: New information collection.

OMB Number: 1660-NEW.

Form Titles and Numbers: Environmental and Historic Preservation Environmental Screening Form, FEMA Form 024-0-1.

Abstract: In efforts to examine the impact of its actions on the environment, look at potential alternatives to that action, inform both decision-makers and the public of those impacts through a transparent process, and pursue mitigation if necessary, grant recipients need to provide information that their actions will comply with all related laws and regulations.

Affected Public: State, Local or Tribal Government; Business or other for profit.

Estimated Total Annual Burden Hours: 52,920 hours.

Table A.12—Estimated Annualized Burden Hours and Costs
Type of respondent | Form name/Form No. | Number of respondents | Number of responses per respondent | Avg. burden per response (in hours) | Total annual burden (in hours) | Avg. hourly wage rate | Total annual respondent cost
State, Local or Tribal Government | Environmental and Historic Preservation Environmental Screening Form/FEMA Form 024-0-1 | 842 | 1 | 40 | 33,680 | $36.15 | $1,217,532
Business or other for-profit | Environmental and Historic Preservation Environmental Screening Form/FEMA Form 024-0-1 | 481 | 1 | 40 | 19,240 | 27.01 | 519,672.40
Total |  | 1,323 |  |  | 52,920 |  | 1,737,204.40

Estimated Cost: There is no annual reporting or recordkeeping costs associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 12, 2010.
Larry Gray,
Director, Records Management Division, Office of Mission Support, Federal Emergency Management Agency, Department of Homeland Security.

[FR Doc. 2010-6354 Filed 3-22-10; 8:45 am]

BILLING CODE 9111-78-P